DEPARTMENT OF HEALTH AND HUMAN SERVICES

National Institutes of Health

Office of the Director, National Institutes of Health; Amended Notice of Meeting

Notice is hereby given of a change in the meeting of the Council of Councils, November 8, 2010, 9 a.m. to November 8, 2010, 3 p.m., National Institutes of Health, Building 31, 31 Center Drive, Bethesda, MD 20892 which was published in the Federal Register on September 30, 2010, 75 FR 60465.

This Federal Register Notice is amended to add a Closed Session from 12:15 p.m. to 12:45 p.m. on November 8, 2010.

The meeting is partially closed to the public.

Dated: October 20, 2010.
Jennifer S. Spaeth,
Director, Office of Federal Advisory Committee Policy.

[FR Doc. 2010-27051 Filed 10-25-10; 8:45 am]

BILLING CODE 4140-01-P